DEPARTMENT OF ENERGY

Federal Energy Regulatory Commission

Combined Notice of Filings

Take notice that the Commission has received the following Natural Gas Pipeline Rate and Refund Report filings:

Filings Instituting Proceedings

Docket Number: PR16-56-000.

Applicants: Lobo Pipeline Company LLC.

Description: Tariff filing per 284.123(e) + (g): Lobo Pipeline Company LLC Revised Statement of Operating Conditions to be effective 6/1/2016; Filing Type: 1280.

Filed Date: 6/1/2016.

Accession Number: 201606015354, http://elibrary.ferc.gov/idmws/doc_info.asp?accession_num=20160415-5222.

Comments Due: 5 p.m. ET 6/22/16.

284.123(g) Protests Due: 5 p.m. ET 8/1/16.

Docket Number: PR16-57-000.

Applicants: Columbia Gas of Ohio, Inc.

Description: Tariff filing per 284.123(b)(1)/.: COH SOC effective 5-31-2016 to be effective 5/31/2016; Filing Type: 980.

Filed Date: 6/3/16.

Accession Number: 201606035209.

Comments/Protests Due: 5 p.m. ET 6/24/16.

Docket Numbers: RP16-971-000.

Applicants: GDF SUEZ Energy Marketing NA, Inc.,GDF Suez Energy North America, Inc.,ANP Fuel Services, Inc.,Atlas Power Finance, LLC.

Description: Joint Petition for Temporary Waiver of Commission Policies, Capacity Release Regulations, and Related Tariff Provisions of the GSENA Natural Gas Entities, et al.

Filed Date: 5/25/16.

Accession Number: 20160525-5186.

Comments Due: 5 p.m. ET 6/9/16.

Docket Numbers: RP16-1014-000.

Applicants: Transcontinental Gas Pipe Line Company.

Description: § 4(d) Rate Filing: Clean-Up Filing—June 2016 to be effective 7/3/2016.

Filed Date: 6/2/16.

Accession Number: 20160602-5223.

Comments Due: 5 p.m. ET 6/14/16.

Docket Numbers: RP16-1015-000.

Applicants: UGI Mt. Bethel Pipeline.

Description: Compliance filing New Tariff Compliance Filing to be effective 7/1/2016.

Filed Date: 6/2/16.

Accession Number: 20160602-5350.

Comments Due: 5 p.m. ET 6/14/16.

Docket Numbers: RP16-1016-000.

Applicants: Eastern Shore Natural Gas Company.

Description: § 4(d) Rate Filing: Annual Fuel Retention and Cash Out Adjustment to be effective 7/1/2016.

Filed Date: 6/2/16.

Accession Number: 20160602-5431.

Comments Due: 5 p.m. ET 6/14/16.

Docket Numbers: RP16-1017-000.

Applicants: Texas Eastern Transmission, LP.

Description: § 4(d) Rate Filing: Non-Conforming Agreement PSEG Power 911359 to be effective 6/6/2016.

Filed Date: 6/3/16.

Accession Number: 20160603-5030.

Comments Due: 5 p.m. ET 6/15/16.

Docket Numbers: RP16-1018-000.

Applicants: EQT Energy, LLC,Statoil Natural Gas LLC.

Description: Joint Petition for Temporary Waiver of Commission Policies, Capacity Release Regulations and Related Tariff Provisions and Request for Expedited Action of EQT Energy, LLC and Statoil Natural Gas LLC under RP16-1018.

Filed Date: 6/3/16.

Accession Number: 20160603-5287.

Comments Due: 5 p.m. ET 6/10/16.

Docket Numbers: RP16-1019-000.

Applicants: Alliance Pipeline L.P.

Description: § 4(d) Rate Filing: Seasonal Service June—September 2016 to be effective 6/1/2016.

Filed Date: 6/6/16.

Accession Number: 20160606-5172.

Comments Due: 5 p.m. ET 6/20/16.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

Filings in Existing Proceedings

Docket Numbers: RP16-850-001.

Applicants: Trans-Union Interstate Pipeline, L.P.

Description: Compliance filing Compliance Filing to be effective 4/1/2016.

Filed Date: 6/2/16.

Accession Number: 20160602-5180.

Comments Due: 5 p.m. ET 6/14/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 7, 2016.
Nathaniel J. Davis, Sr.,
Deputy Secretary.

[FR Doc. 2016-13899 Filed 6-10-16; 8:45 am]

BILLING CODE 6717-01-P